DEPARTMENT OF HOUSING AND URBAN DEVELOPMENT

[Docket No. FR-4809-N-20]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Julie Jones-Conte, Department of the Army, Office of the Assistant Chief of Staff for Installation Management, Attn: DAIM-MD, Room 1E677, 600 Army Pentagon, Washington, DC 20310-600; (703) 692-9223; COE: Ms. Shirley Middleswarth, Army Corps of Engineers, Civil Division, Directorate of Real Estate, 441 G Street, NW., Washington, DC 20314-1000; (202) 761-7425; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW., MS5512, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: May 8, 2003.
Mark R. Johnston,
Deputy Director, Office of Special Needs Assistance Programs.

TITLE V, FEDERAL SURPLUS PROPERTY PROGRAM FEDERAL REGISTER REPORT FOR 5/16/03

Suitable/Available Properties

Buildings (by State)

California

Bell Federal Service Center

5600 Rickenbacker Road

Bell Co: Los Angeles, CA 90201-

Landholding Agency: GSA

Property Number: 54200320009

Status: Excess

Comment: 9 bldgs., various sq. ft., need repair, portion occupied, restricted access, presence of asbestos/lead paint/PCBs, most recent use—warehouse/office

GSA Number: 9-G-CA-1575

Illinois

8 Bldgs.

various locations

Bolingbrook Co: Will IL 48730-

Landholding Agency: GSA

Property Number: 54200320010

Status: Excess

Comment: 4 frame duplex structures and 4 frame single family homes, 1300 to 1500 sq. ft. each, possible lead paint

GSA Number: 1-U-IL-728

12 Residences

various locations

Prairie View Twp Co: Lake IL 48730-

Landholding Agency: GSA

Property Number: 54200320011

Status: Excess

Comment: 1150 sq. ft. each, possible asbestos/lead paint

GSA Number: 1-U-IL-727

West Virginia

Buckland/Tract 104-01

New River Gorge National River

Hinton Co: Raleigh WV 25951-

Landholding Agency: Interior

Property Number 61200320007

Status: Excess

Comment: 522 sq. ft. dwelling, needs major rehab, off-site use only

Weaver/Tract 102-17

New River Gorge National

River

Hinton Co: Raleigh WV 25951-

Landholding Agency: Interior

Property Number: 61200320008

Status: Excess

Comment: 4036 sq. ft. dwelling w/deteriorated shed, needs major rehab, off-site use only

Hobbs/Tract 108-25

New River Gorge National

River

Hinton Co: Summers WV 25951-

Landholding Agency: Interior

Property Number: 61200320009

Status: Excess

Comment: 1295 sq. ft. dwelling w/deteriorated garage and sheds, needs major rehab, off-site use only

Virginia

1.0 acre

Naval Station

St. Juliens Creek Annex

Portsmouth Co: VA

Landholding Agency: Navy

Property Number: 77200320033

Status: Unutilized

Comment: Grassy field, restricted access

Alaska

Warehouse

Naval Arctic Research Lab

Point McIntyre Co: AK

Landholding Agency: Navy

Property Number: 77200320019

Status: Excess

Reason: Extensive deterioration

Garage

Naval Arctic Research Lab

Point McIntyre Co: AK

Landholding Agency: Navy

Property Number: 77200320020

Status: Excess

Reason: Extensive deterioration

Operations Bldg.

Naval Arctic Research Lab

Point McIntyre Co: AK

Landholding Agency: Navy

Property Number: 77200320021

Status: Excess

Reason: Extensive deterioration

California

Bldg. 2203

Marine Corps Base

Camp Pendleton Co: CA

Landholding Agency: Navy

Property Number: 77200320022

Status: Excess

Reason: Extensive deterioration

Bldg. 2683

Marine Corps Base

Camp Pendleton Co: CA 92055-

Landholding Agency: Navy

Property Number: 77200320023

Status: Excess

Reason: Extensive deterioration

Bldg. 2685

Marine Corps Base

Camp Pendleton Co: CA 92055-

Landholding Agency: Navy

Property Number: 77200320024

Status: Excess

Reason: Extensive deterioration

Bldg. 2692

Marine Corps Base

Camp Pendleton Co: CA 92055-

Landholding Agency: Navy

Property Number: 77200320025

Status: Excess

Reason: Extensive deterioration

Bldg. 20735

Marine Corps Base

Camp Pendleton Co: CA 92055-

Landholding Agency: Navy

Property Number: 77200320026

Status: Excess

Reason: Extensive deterioration

Bldg. 21546

Marine Corps Base

Camp Pendleton Co: CA 92055-

Landholding Agency: Navy

Property Number: 77200320027

Status: Excess

Reason: Extensive deterioration

Bldg. 26034

Marine Corps Base

Camp Pendleton Co: CA 92055-

Landholding Agency: Navy

Property Number: 77200320028

Status: Excess

Reason: Extensive deterioration

Kansas

Bldg. M37

Minooka Park

Sylvan Grove Co: Russell KS 67481-

Landholding Agency: COE

Property Number: 31200320002

Status: Excess

Reason: Extensive deterioration

Bldg. M38

Minooka Park

Sylvan Grove Co: Russell KS 67481-

Landholding Agency: COE

Property Number: 31200320003

Status: Excess

Reason: Extensive deterioration

Bldg. L19

Lucas Park

Sylvan Grove Co: Russell KS 67481-

Landholding Agency: COE

Property Number: 31200320004

Status: Unutilized

Reason: Extensive deterioration

North Carolina

Bldg. 13

Marine Corps Air Station

Cherry Point

Havelock Co: Craven NC 28533-

Landholding Agency: Navy

Property Number: 77200320034

Status: Unutilized

Reason: Secured Area

Bldg. 74, 75

Marine Corps Air Station

Cherry Point

Havelock Co: Craven NC 28533-

Landholding Agency: Navy

Property Number: 77200320036

Status: Unutilized

Reason: Secured Area

Bldgs. 478

Marine Corps Air Station

Cherry Point

Havelock Co: Craven NC 28533-

Landholding Agency: Navy

Property Number: 77200320035

Status: Unutilized

Reason: Secured Area

Bldg. 933

Marine Corps Air Station

Cherry Point

Havelock Co: Craven NC 28533-

Landholding Agency: Navy

Property Number: 77200320037

Status: Unutilized

Reason: Secured Area

Bldg. 1024

Marine Corps Air Station

Cherry Point

Havelock Co: Craven NC 28533-

Landholding Agency: Navy

Property Number: 77200320038

Status: Unutilized

Reason: Secured Area

Bldg. 1198

Marine Corps Air Station

Cherry Point

Havelock Co: Craven NC 28533-

Landholding Agency: Navy

Property Number: 77200320039

Status: Unutilized

Reason: Secured Area

Bldg. 1228

Marine Corps Air Station

Cherry Point

Havelock Co: Craven NC 28533-

Landholding Agency: Navy

Property Number: 77200320040

Status: Unutilized

Reason: Secured Area

Bldg. 1390

Marine Corps Air Station

Cherry Point

Havelock Co: Craven NC 28533-

Landholding Agency: Navy

Property Number: 77200320041

Status: Unutilized

Reason: Secured Area

Bldg. 1647

Marine Corps Air Station

Cherry Point

Havelock Co: Craven NC 28533-

Landholding Agency: Navy

Property Number: 77200320042

Status: Unutilized

Reason: Secured Area

Bldg. 1655

Marine Corps Air Station

Cherry Point

Havelock Co: Craven NC 28533-

Landholding Agency: Navy

Property Number: 77200320043

Status: Unutilized

Reason: Secured Area

Bldg. 1902

Marine Corps Air Station

Cherry Point

Havelock Co: Craven NC 28533-

Landholding Agency: Navy

Property Number: 77200320044

Status: Unutilized

Reason: Secured Area

Bldg. 3669

Marine Corps Air Station

Cherry Point

Havelock Co: Craven NC 28533-

Landholding Agency: Navy

Property Number: 77200320045

Status: Unutilized

Reason: Secured Area

Bldgs. 3761, 3763

Marine Corps Air Station

Cherry Point

Havelock Co: Craven NC 28533-

Landholding Agency: Navy

Property Number: 77200320046

Status: Unutilized

Reason: Secured Area

Bldg. 4000

Marine Corps Air Station

Cherry Point

Havelock Co: Craven NC 28533-

Landholding Agency: Navy

Property Number: 77200320047

Status: Unutilized

Reason: Secured Area

Bldg. 4063

Marine Corps Air Station

Cherry Point

Havelock Co: Craven NC 28533-

Landholding Agency: Navy

Property Number: 77200320048

Status: Unutilized

Reason: Secured Area

Bldg. 4263

Marine Corps Air Station

Cherry Point

Havelock Co: Craven NC 28533-

Landholding Agency: Navy

Property Number: 77200320049

Status: Unutilized

Reason: Secured Area

Bldg. 4329

Marine Corps Air Station

Cherry Point

Havelock Co: Craven NC 28533-

Landholding Agency: Navy

Property Number: 77200320050

Status: Unutilized

Reason: Secured Area

Tennessee

Bldg. 119

Holston Army Amo Plant

Kingsport Co: Hawkins TN 37660-

Landholding Agency: Army

Property Number: 21200320176

Status: Underutilized

Reasons: Within 2000 ft. of flammable or explosive material—Secured Area

Texas

Facility 13

Naval Air Station

Corpus Christi Co: Nueces TX 78419-5021

Landholding Agency: Navy

Property Number: 77200320051

Status: Excess

Reason: Extensive deterioration

Facility 94

Naval Air Station

Corpus Christi Co: Nueces TX 78419-5021

Landholding Agency: Navy

Property Number: 77200320052

Status: Excess

Reason: Extensive deterioration

Facility 1777

Naval Air Station

Corpus Christi Co: Nueces TX 78419-5021

Landholding Agency: Navy

Property Number: 77200320053

Status: Excess

Reason: Extensive deterioration

Washington

Bldg. 1707

102 Hwy Heights

Mesa Co: Franklin WA 99343-

Landholding Agency: Interior

Property Number: 61200320002

Status: Unutilized

Reason: Extensive deterioration

Bldg. 1702

102 Hwy Heights

Mesa Co: Franklin WA 99343-

Landholding Agency: Interior

Property Number: 61200320003

Status: Unutilized

Reason: Extensive deterioration

Bldg. 1806

Mesa Pumping Plant

Mesa Co: Franklin WA 99343-

Landholding Agency: Interior

Property Number: 61200320004

Status: Unutilized

Reason: Extensive deterioration

Bldg. 1202

508 S. Mample

Warden Co: Grant WA 98857-

Landholding Agency: Interior

Property Number: 61200320005

Status: Unutilized

Reason: Extensive deterioration

Bldg. 1203

512 S. Mample

Warden Co: Grant WA 98857-

Landholding Agency: Interior

Property Number: 61200320006

Status: Unutilized

Reason: Extensive deterioration

West Virginia

Thompson/Tract 112-23

New River Gorge

Meadow Creek Co: Summers WV 25977-

Landholding Agency: Interior

Property Number: 61200320010

Status: Excess

Reason: Extensive deterioration

Bowles/Tract 128-01

New River Gorge National River

Prince Co: Fayette WV 25907-

Landholding Agency: Interior

Property Number: 61200320011

Status: Excess

Reason: Extensive deterioration

Kessler/Tract 128-01

New River Gorge National River

Prince Co: Fayette WV 25907-

Landholding Agency: Interior

Property Number: 61200320012

Status: Excess

Reason: Extensive deterioration

Plumley/Tract 128-01

New River Gorge National River

Prince Co: Fayette WV 25907-

Landholding Agency: Interior

Property Number: 61200320013

Status: Excess

Reason: Extensive deterioration

Willis/Tract 128-01

New River Gorge National River

Prince Co: Fayette WV 25907-

Landholding Agency: Interior

Property Number: 61200320014

Status: Excess

Reason: Extensive deterioration

Land (by State)

Puerto Rico

Site 1

Naval Station Roosevelt Roads

Ceiba Co: PR 00735-

Landholding Agency: Navy

Property Number: 77200320029

Status: Unutilized

Reason: Secured Area

Site 2

Naval Station Roosevelt Roads

Ceiba Co: PR 00735-

Landholding Agency: Navy

Property Number: 772003230030

Status: Unutilized

Reason: Secured Area

Site 3

Naval Station Roosevelt Roads

Ceiba Co: PR 00735-

Landholding Agency: Navy

Property Number: 77200320031

Status: Unutilized

Reason: Secured Area

Site 4

Naval Station Roosevelt Roads

Ceiba Co: PR 00735-

Landholding Agency: Navy

Property Number: 77200320032

Status: Unutilized

Reason: Secured Area

Tennessee

Tract 2321

J. Percy Priest Dam and Reservoir

Murfreesboro Co: Rutherford TN 37130-

Location: South of Old Jefferson Pike

Landholding Agency: COE

Property Number: 31199010935

Status: Excess

Reason: landlocked

[FR Doc. 03-12125 Filed 5-15-03; 8:45 am]

BILLING CODE 4210-29-m